DEPARTMENT OF THE INTERIOR

National Park Service

National Park System Advisory Board; Meeting

AGENCY: National Park Service, Interior.

ACTION: Notice of meeting.

Notice is hereby given in accordance with the Federal Advisory Committee Act, 5 U.S.C. appendix, that the National Park System Advisory Board will meet July 14-15, 2004, in Estes Park, Colorado. On July 14, the Board will tour Rocky Mountain National Park areas and will be briefed regarding environmental, education and partnership programs. On July 15, the Board will convene its business meeting at 9 a.m., e.s.t., in the Billiard/Pinôn Room of The Stanley Hotel, 333 Wonderview Avenue, Estes Park, Colorado 80517, telephone 970-586-3371. The meeting will be adjourned at 5:30 p.m. During the morning session, the Board will be addressed by National Park Service Director Fran Mainella and will receive the reports of its Education Committee and Partnerships. Committee. In the afternoon, the Board will receive the reports of its Director's Council and National Parks Science Committee, including a report on the National Natural Landmarks Program. The Board also will receive reports on Colorado River Management and the President's Healthier U.S. Initiative, and will discuss pending business.

Other officials of the National Park Service and the Department of the Interior may address the Board, and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service; 1849 C Street, NW., Room 7250; Washington, DC 20240; telephone 202-208-7456.

Draft minutes of the meeting will be available for public inspection about 12 weeks after the meeting, in room 7252, Main Interior Building, 1849 C Street, NW., Washington, DC.

Dated: June 25, 2004.
Bernard Fagan,
Deputy Chief, Office of Policy.

[FR Doc. 04-15148 Filed 7-2-04; 8:45 am]

BILLING CODE 4312-52-P